DEPARTMENT OF TRANSPORTATION

Federal Railroad Administration

[Docket No. 2009-0095, Notice No. 1]

RIN: 2130-AB90

High-Speed Passenger Rail Safety Strategy; Highway-Rail Grade Crossing Guidelines for High-Speed Passenger Rail: Creation of Docket

AGENCY: Federal Railroad Administration (FRA), Department of Transportation (DOT).

ACTION: Notice.

SUMMARY: On June 17, 2009, FRA issued a Notice of Funding Availability and Interim Program Guidance detailing the application requirements for obtaining funding for high-speed rail projects under the American Recovery and Reinvestment Act of 2009 and the Department of Transportation Appropriations Acts for fiscal year (FY) 2008 and FY 2009. The Notice and Interim Guidance was published in the Federal Register on June 23, 2009. FRA is currently evaluating grant applications submitted in the first round of the application process, in accordance with evaluation criteria included in the Interim Guidance. FRA will also develop high-speed passenger rail (HSPR) safety strategy and highway-rail grade crossing guidelines for HSPR as part of a plan to address the Nation's transportation challenges by investing in an efficient, high-speed passenger rail network of 100-mile to 600-mile intercity corridors that connect communities across America.

To date, FRA has received more than 30 comments on its HSPR Safety Strategy and Grade Crossing Guidelines, and FRA anticipates that the current high level of interest in high-speed rail projects will continue. For this reason, FRA is creating a combined docket for comments on the HSPR Safety Strategy and Grade Crossing Guidelines. FRA will place previously published documents and previously received comments in this docket to make these materials available to the public. This docket will be kept open indefinitely, since FRA is interested in receiving comments from all interested parties. Comments filed as soon as practicable will be of the greatest use.

ADDRESSES: Comments related to this docket, FRA-2009-0095, may be submitted by any of the following methods:

• Web site: http://www.regulations.gov. Follow the online instructions for submitting comments.

• Mail: Docket Management Facility, U.S. Department of Transportation, Room W12-140, 1200 New Jersey Avenue, SE., Washington, DC 20590.

• Hand Delivery: Docket Management Facility, U.S. Department of Transportation, West Building, Ground Floor, Room W12-140, 1200 New Jersey Avenue, SE., Washington, DC, between 9 a.m. and 5 p.m. ET, Monday through Friday, except Federal holidays.

• Fax: 202-493-2251.

Instructions: All submissions must include the agency name and docket number or Regulatory Identification Number (RIN) for this rulemaking. Please note that all comments received will be posted without change to http://www.regulations.gov, including any personal information provided.

Privacy Act: Anyone is able to search the electronic form of all comments received into any of DOT's dockets by the name of the individual submitting the comment (or signing the comment, if submitted on behalf of an association, business, labor union, etc). You may review DOT's complete Privacy Act Statement published in the Federal Register on April 11, 2000 (Volume 65, Number 70, Pages 19477-78), or you may visit http://DocketsInfo.dot.gov.

Docket: For access to the docket to read background documents or comments received, go to http://www.regulations.gov or go to the street address listed above between 9 a.m. and 5 p.m. ET, Monday through Friday, except Federal holidays. Follow the online instructions for accessing the dockets.

FOR FURTHER INFORMATION CONTACT: Mr. Larry Woolverton, Railroad Safety Advisory Committee Coordinator, Office of Railroad Safety, W35-340, Federal Railroad Administration, 1200 New Jersey Avenue, SE., Washington, DC 20590, 202-493-6212.

Issued in Washington, DC on September 24, 2009.
Grady C. Cothen, Jr.,
Deputy Associate Administrator for Safety Standards and Program Development.

[FR Doc. E9-23540 Filed 9-29-09; 8:45 am]

BILLING CODE 4910-06-P